SMALL BUSINESS ADMINISTRATION

[Disaster Declaration # 10701 and # 10702]

Louisiana Disaster # LA-00007

AGENCY: U.S. Small Business Administration.

ACTION: Notice.

SUMMARY: This is a Notice of the Presidential declaration of a major disaster for the State of Louisiana (FEMA-1668-DR), dated 11/02/2006.

Incident: Severe Storms and Flooding.

Incident Period: 10/16/2006 and continuing.

Effective Date: 11/02/2006.

Physical Loan Application Deadline Date: 01/02/2007.

Economic Injury (EIDL) Loan Application Deadline Date: 08/02/2007.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 11/02/2006, applications for disaster loans may be filed at the address listed above or other locally announced locations.

The following areas have been determined to be adversely affected by the disaster:

Primary Parishes (Physical Damage and Economic Injury Loans):

Caldwell, Franklin, Grant, La Salle, Madison, Morehouse, Natchitoches, Richland, Sabine, Vernon, Winn.

Contiguous Parishes / Counties (Economic Injury Loans Only):

Louisiana: Allen, Avoyelles, Beauregard, Bienville, Catahoula, De Soto, East Carroll, Jackson, Ouachita, Rapides, Red River, Tensas Union, West Carroll.

Arkansas: Ashley, Chicot, Union.

Mississippi: Warren.

Texas: Newton, Sabine, Shelby.

The Interest Rates are:

| Percent
For Physical Damage:
Homeowners With Credit Available Elsewhere | 6.250
Homeowners Without Credit Available Elsewhere | 3.125
Businesses With Credit Available Elsewhere | 7.934
Other (Including Non-Profit Organizations) With Credit Available Elsewhere | 5.000
Businesses And Non-Profit Organizations Without Credit Available Elsewhere | 4.000
For Economic Injury:
Businesses & Small Agricultural Cooperatives Without Credit Available Elsewhere | 4.000

The number assigned to this disaster for physical damage is 10701 6 and for economic injury is 10702 0.

(Catalog of Federal Domestic Assistance Numbers 59002 and 59008)

James E. Rivera,
Acting Associate Administrator for Disaster Assistance.

[FR Doc. E6-19055 Filed 11-9-06; 8:45 am]

BILLING CODE 8025-01-P